DEPARTMENT OF JUSTICE

National Institute of Corrections

Solicitation for a Cooperative Agreement—“Managing Long Term Aging Offenders and Offenders With Chronic and Terminal Illnesses''

AGENCY: National Institute of Corrections, Department of Justice.

ACTION: Solicitation for a Cooperative Agreement.

SUMMARY: The Department of Justice (DOJ), National Institute of Corrections (NIC), announces the availability of funds in FY 2000 for a cooperative agreement to fund the project “Managing Long Term Aging Offenders and Offenders with Chronic and Terminal Illnesses.'' NIC will award a one year cooperative agreement to: develop a handbook or manual that will provide information to state correctional agencies identifying current practices, policies, and procedures and their impact on long term aging offenders with chronic and terminal illnesses. A cooperative agreement is a form of assistance relationship where the National Institute of Corrections is substantially involved during the performance of the award. An award is made to an organization that will, in concert with the institute, identify the “effective practices and intervention'' regarding the case and management of aging offenders with chronic or terminal health problems.

Background

According to recent studies, the national percentage of inmates 50 years of age and older and, inmates who have significant health problems requiring intermittent or specialized long-term care, has increased significantly. Research further indicates a lack of knowledge among correctional practitioners regarding issues such as, economic, programmatic approaches, and changing characteristics systems must address in meeting the needs of this population. The prevalence of aging offenders and offenders with chronic and long-term illnesses presents enormous challenges to correctional personnel. Longer prison sentences, the rise of infectious diseases, limited availability of in prison programs, coupled with the lack of resources, enhance the likelihood that this specific population may be forgotten, deteriorate to a worst condition and become a financial burden to society. Also, information about what other correctional jurisdictions are doing to cope with this increasing population is lacking, this frequently means that correctional practitioners have no common frame of reference.

Purpose

To document and make available to correctional practitioners and correctional health care providers current and innovative programs designed to address the needs of incarcerated long-term aging offenders and offenders with chronic and terminal illnesses.

Objectives

1. To develop a publication that addresses the effective management and care, treatment modalities, their effectiveness, and innovative approaches for long-term aging offenders and offenders with chronic and terminal illnesses; and

2. To provide technical assistance to five agencies which are beginning or improving programs and services for these offenders.

NIC considers it important for the applicant to discuss how the following questions or other criteria identified by the applicant would be employed for documenting effective prison mental health services and interventions:

• Are there explicit models or research evidence of how the health services or interventions for this specific population are supposed to work within prisons?

• Are there information or substantiations that health services and interventions employ methods which have been consistently effective with aging, chronic, and terminally ill offenders in prison?

• Are the services or interventions delivered in ways which engage these offenders in active participation—e.g., responsivity?

• Are the services or interventions rigorously managed and designed?

• Do the health services support the principle of a continuum of care—e.g., screening, assessments for diagnosis and risk, treatment planning, range of interventions, transitional care from prison to the community, and linkages to appropriate community health and other support services?

• What evidence or information is available that services or interventions are delivered and overseen by qualified professionals consistent with generally accepted protocols—i.e., valid assessment and screening tools, treatment interventions matched to the level of the offender need, case management strategies, treatment providers who are licensed and meet specific standards, etc?

• What research efforts have been conducted to assess the effectiveness of the intervention being reviewed by the project?

Project Scope

The project's strategy or design should address the following areas:

—Screening and assessment

—Intervention techniques

—Community and aftercare linkages

—Treatment approaches

—Case management

—Classification

—Planning

—Transitional services

—Staff Training

—Peer Support

—Instruments to assess, develop or identify treatment programs

—Individualized treatment approaches

—Cultural competency

—Gender-based treatment

—Monitoring, evaluating program integrity

The successful applicant would be required to: 1—use some portion of the funds to collaborate with other correctional and health professionals (experts) to review the current state of health programs for the aging, chronic and terminally ill offender in corrections; 2—Identify existing programs through a survey, addressing relevant standards and legal issues; 3—Develop a document for practitioners that presents guidelines and criteria for successful health programs for this specific incarcerated population. 4—Fully discuss classification, special care, work opportunities, and special release provisions; and; 5—Provide an instrument to be used to assess effective in-prison health programs; and 6—Provide technical assistance to five agencies which are beginning or improving programs and services for the aging, chronic, and terminally ill offender.

In consultation with NIC prepare and edit a final camera-ready copy of the document for NIC publication in accordance with the NIC Preparation of Printed Materials for Publication. All products from this funding effort will be in the public domain and available to interested parties through the National Institute of Corrections.

Application Requirement

The applicant must provide goals, objectives, and methods of implementation for the project that are consistent with the announcement. Objectives should be clear, measurable, attainable, and focused on the methods used to conduct the project. Applicants should provide an implementation plan for the project and include a schedule which will demonstrate milestones for significant task in chart form. The project initiated early, 2000 will be completed in early, 2001.

Authority: Public Law 93-415.

Funds Available

The award will be limited to a maximum of $165,000 (direct and indirect costs). Funds may only be used for the activities that are linked to the desired outcome of the project. No funds are transferred to state or local governments. This project will be collaborative venture with the NIC Prisons Division.

Deadline for Receipt of Applications

Applications must be received by 4:00 pm Eastern Time on Wednesday March 29, 2000.

ADDRESSES AND FURTHER INFORMATION: Requests for the application kit should be directed to Judy Evens, Cooperative Agreement Control Office, National Institute of Corrections, 320 First Street, NW, Room 5007, Washington, D.C. 20534 or by calling (800) 995-6423, extension 159 or (202) 307-3106, extension 159. She can also be contacted by E-mail via jevens@bop.gov. All technical and or programmatic questions concerning this announcement should be directed to Madeline M. Ortiz at the above address or by calling (800) 995-6423, extension 141 or (202) 307-1300, extension 141, or by E-mail via mmortiz@bop.gov. A copy of this announcement and application forms may also be obtained through the NIC web site: http://www.nicic.org (click on “What's New” and “Cooperative Agreements”).

Applications mailed or express delivery should be sent to: National Institute of Corrections, 320 First Street, NW, 5007, Washington, D.C. 20534, Attn: Director. Hand delivered applications can be brought to 500 First Street, NW, Washington, D.C. 20534. The front desk will call Bobbi Tinsley (307-3106 and press 0) to come to the desk for pickup.

Eligible Applicants: An eligible applicant is any state or general unit of local government, private agency, educational institution, organization, individuals or team with expertise in correctional mental health services.

Review Considerations: Applications received under this announcement will be subjected to a NIC 3 to 5 member Peer Review Process.

Number of Awards: One (1).

NIC Application Number: 00P11. This number should appear as a reference line in the cover letter and also in box 11 of Standard Form 424.

Executive Order 12372: This program is subject to the provisions of Executive Order 12372. Executive Order 12372 allows States the option of setting up a system for reviewing applications from within their States for assistance under certain Federal programs. Applicants (other than Federally-recognized Indian tribal governments) should contact their State Single Point of Contact (SPOC), a list of which is included in the application Kit, along with further instructions on proposed projects serving more than one State.

The Catalog of Federal Domestic Assistance number is: 16.603

Dated: February 14, 2000.
Morris L. Thigpen,
Director, National Institute of Corrections.

[FR Doc. 00-3881 Filed 2-17-00; 8:45 am]

BILLING CODE 4410-36-M